DEPARTMENT OF THE INTERIOR

National Park Service

[N6731; NPS-WASO-NAGPRA-NPS0041491; PPWOCRADN0-PCU00RP14.R50000]

Notice of Inventory Completion: San Diego State University, San Diego, CA

AGENCY: National Park Service, Interior.

ACTION: Notice.

SUMMARY: In accordance with the Native American Graves Protection and Repatriation Act (NAGPRA), San Diego State University (SDSU) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Jaime Lennox, San Diego State University, 5500 Campanile Drive, San Diego, CA 92182, email jlennox@sdsu.edu.

SUPPLEMENTARY INFORMATION: This notice is published as part of the National Park Service's administrative responsibilities under NAGPRA. The determinations in this notice are the sole responsibility of SDSU, and additional information on the determinations in this notice, including the results of consultation, can be found in its inventory or related records. The National Park Service is not responsible for the determinations in this notice.

Abstract of Information Available

Human remains representing, at least, one individual have been identified. The 10 lots of associated funerary objects representing approximately 500+ associated funerary objects are one lot of shell, one lot of lithics, one lot of unidentified items, one lot of pollen samples, one lot of soil samples, one lot of non-human faunal, one lot of fire affected rock, one lot of historic items, one lot of ground stone, and one lot of charcoal. In 1979, SDSU led excavations at site CA-SDI-6153 (W-2639; La Fleur) located in San Diego County, California, during which associated funerary objects and the burial of an ancestor were uncovered and removed. After excavation, the associated funerary objects were brought to SDSU's campus; it's unclear whether any of the ancestor's remains were brought to SDSU's campus at that time as they were unaccounted for until 2025. The resulting collection was given accession number SDSU-0093 (CMP-SDSU-0093) and included the then unaccounted for ancestor. A notice was published in the Federal Register for a portion of the associated funerary objects from the collection on October 24, 2000 (65 FR 63621); the associated funerary objects were listed as cultural items in the notice and were repatriated to the Tribes listed in the determinations section below in 2000. Additional associated funerary objects from the collection were not part of the repatriation in 2000 and remained in SDSU's custody; the remains of the ancestor were returned to SDSU in 2025. It is unknown whether any potentially hazardous substances were used to treat the associated funerary objects. A portion of the ancestral remains are documented as being partially soaked with “Elmer's Glue-All” and partially mended with “Scotch Super Strength Adhesive.”

Human remains representing, at least, 54 individuals have been identified. The 15 lots of associated funerary objects representing approximately 180,000+ associated funerary objects are one lot of ground stone, one lot of historic items, one lot of worked non-human faunal, one lot of non-human faunal, one lot of ceramics, one lot of lithics, one lot of non-cultural items, one lot of fire affected rock, one lot of charcoal, one lot of unworked shell, one lot of worked shell, one lot of ochre, one lot of unmodified stone, one lot of soil, and one lot of seeds. The associated funerary objects and ancestral remains were removed from site CA-SDI-4638 (W-389; Bancroft Ranch) located in San Diego County, California during SDSU led excavations between 1970 and 1977. In 1980, the resulting collection was deeded to SDSU and was accessioned as SDSU-0094 (CMP-SDSU-0094). A notice of inventory completion was published in the Federal Register on October 24, 2000 (65 FR 63622) accounting for a minimum of one individual and two associated funerary objects, which were repatriated in 2001 to the Tribes listed in the determinations section below. The rest of the collection remained in SDSU's custody. It is unknown whether any potentially hazardous substances were used to treat the human remains or associated funerary objects.

No human remains are present. The seven lots of associated funerary objects representing approximately 700+ associated funerary objects are one lot of worked non-human faunal, one lot of lithics, one lot of ground stone, one lot of ceramics, one lot of unworked non-human faunal, one lot of unworked shell, and one lot of worked shell. Associated funerary objects and human remains were collected by Lt. Wayne O. Morris on an unknown date from an unrecorded site referenced as near the Carlton Hills Estates located in San Diego County, California; the collection was then donated to SDSU in 1965 and accessioned as SDSU-0102 (CMP-SDSU-0102). Previous repatriation of human remains from the collection (representing a minimum of one individual) occurred in 2010 to the Tribes listed in the determinations section below; the human remains were published in the Federal Register on July 18, 2003 (68 FR 42757). The rest of the collection remained in SDSU's custody. It is unknown whether any potentially hazardous substances were used to treat the human remains or associated funerary objects.

No human remains are present. The three lots of associated funerary objects representing approximately 200+ associated funerary objects are one lot of ceramics, one lot of lithics, and one lot of ground stone. At an unknown date, associated funerary objects and human remains were removed from site CA-IMP-2 located in Imperial County, California by an individual identified as Wakefield; SDSU subsequently received the collection in 1959 and assigned accession number SDSU-0172 (CMP-SDSU-0172). Previous repatriation of the human remains from the collection (representing a minimum of one individual) occurred in 2001 to the Tribes listed in the determinations section below; the human remains were published in the Federal Register on October 24, 2000 (65 FR 63622). The rest of the collection remained in SDSU's custody. It is unknown whether any potentially hazardous substances were used to treat the human remains or associated funerary objects.

No human remains are present. The five lots of associated funerary objects representing approximately 400+ associated funerary objects are one lot of unworked shell, one lot of historic items, one lot of ground stone, one lot of chipped stone, and one lot of soil samples. In 1980, associated funerary items were removed via surface collection and excavation at site CA-SDI-215 (Seaside Solana) located in San Diego County, California by cultural resource management firm RECON. SDSU subsequently received the collection from RECON in 1984 and assigned accession number SDSU-0202 (CMP-SDSU-0202). It is unknown whether any potentially hazardous substances were used to treat the human remains or associated funerary objects.

No human remains are present. The seven lots of associated funerary objects representing approximately 8,800+ associated funerary objects are one lot of lithics, one lot of soil samples, one lot of ground stone, one lot of historic items, one lot of unworked non-human faunal, one lot of unworked shell, and one lot of vegetal samples. In 1978, cultural items and human remains were removed via excavation from site CA-SDI-5369 (W-40; San Dieguito Estates) located in San Diego County, California by cultural resources management firm RECON. SDSU subsequently received the collection on an unknown date (likely in 1984) and assigned accession number SDSU-0359 (CMP-SDSU-0359). Previous repatriation of the human remains from the collection (representing a minimum of one individual) occurred in 2001 to the Tribes listed in the determinations section below; the human remains were published in the Federal Register on October 24, 2000 (65 FR 63622). The rest of the collection remained in SDSU's custody. It is unknown whether any potentially hazardous substances were used to treat the human remains or associated funerary objects.

Human remains representing, at least, one individual have been identified. The 15 lots of associated funerary objects representing approximately 39,000+ associated funerary objects are one lot of lithics, one lot of soil samples, one lot of ground stone, one lot of unworked non-human faunal, one lot of shell, one lot of historic items, one lot of wood, one lot of charcoal, one lot of fire affected rock, one lot of ceramics, one lot of worked non-human faunal, one lot of unworked shell, one lot of worked shell, one lot of non-cultural items, and one lot of soil samples. In 1979, SDSU led excavations at site CA-SDI-6153 (W-2639; La Fleur) located in San Diego County, California during which associated funerary objects and human remains were removed. After excavation, the associated funerary objects and ancestral remains were brought to SDSU's campus. The majority of the cultural items and the ancestral remains were accessioned as collection SDSU-0093 (CMP-SDSU-0093), for which a notice was published in the Federal Register on October 24, 2000 for a portion of the associated funerary objects from the collection (65 FR 63621); repatriation of these associated funerary objects occurred in 2001 to the Tribes listed in the determinations section below. While housed at SDSU, for unknown reasons at an unknown time, a portion of the collection was separated and unaccounted for until 2013; the portioned-out collection was assigned accession number SDSU-0862 (CMP-SDSU-0862). It is unknown whether any potentially hazardous substances were used to treat the human remains or associated funerary objects.

Cultural Affiliation

Based on the information available and the results of consultation, cultural affiliation is reasonably identified by the geographical location or acquisition history of the human remains and associated funerary objects described in this notice.

Determinations

SDSU has determined that:

• The human remains described in this notice represent the physical remains of 56 individuals of Native American ancestry.

• The 62 lots of objects described in this notice are reasonably believed to have been placed intentionally with or near individual human remains at the time of death or later as part of the death rite or ceremony.

• There is a connection between the human remains and associated funerary objects described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, SDSU must determine the most appropriate requestor prior to repatriation. Requests for joint repatriation of the human remains and associated funerary objects are considered a single request and not competing requests. SDSU is responsible for sending a copy of this notice to the Indian Tribes and Native Hawaiian organizations identified in this notice and any other consulting parties.

Authority: Native American Graves Protection and Repatriation Act, 25 U.S.C. 3003, and the implementing regulations, 43 CFR 10.10.

Dated: December 2, 2025.
Melanie O'Brien,
Manager, National NAGPRA Program.

[FR Doc. 2025-23183 Filed 12-17-25; 8:45 am]

BILLING CODE 4312-52-P